DEPARTMENT OF TRANSPORTATION

Federal Aviation Administration

14 CFR Part 91

[Docket No. FAA-2006-25877; Amendment No. 91-317]

RIN 2120-AJ44

Inclusion of Reference to Manual Requirements

AGENCY: Federal Aviation Administration, DOT.

ACTION: Final rule; technical amendment.

SUMMARY: The Federal Aviation Administration (FAA) is making a minor technical change to a final rule published in the Federal Register on October 16, 2009. That final rule established new requirements for the certification of products and articles. In that final rule, the FAA inadvertently did not change an affected regulatory reference in one section. The FAA is issuing this technical amendment to correct that oversight.

DATES: Effective Date: Effective on April 16, 2011.

FOR FURTHER INFORMATION CONTACT: Kim Barnette, Aircraft Maintenance Division, AFS-300, Federal Aviation Administration, 950 L'Enfant Plaza North, SW., Washington, DC 20024; telephone: (202) 385-6403; facsimile: (202) 385-6474; e-mail: Kim.A.Barnette@faa.gov.

SUPPLEMENTARY INFORMATION: The FAA published a final rule entitled “Production and Airworthiness Approvals, Parts Marking, and Miscellaneous Amendments” in the Federal Register on October 16, 2009 (74 FR 53368). That final rule established new requirements for the certification of products and articles. That final rule also redesignated § 21.305 as § 21.8 but did not revise a cross reference in § 91.107(a)(3)(iii)(B)(3)(iv) to reflect the redesignation. This technical amendment will correct § 91.107(a)(3)(iii)(B)(3)(iv) to reference newly redesignated § 21.8.

List of Subjects in 14 CFR Part 91

Afghanistan, Agriculture, Air traffic control, Aircraft, Airmen, Airports, Aviation safety, Canada, Cuba, Ethiopia, Freight, Mexico, Noise control, Political candidates, Reporting and recordkeeping requirements, Yugoslavia.

Accordingly, Title 14 of the Code of Federal Regulations (CFR) part 91 is amended as follows:

The Amendment

PART 91—GENERAL OPERATING AND FLIGHT RULES

1. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 Stat.1180).

2. Amend § 91.107 by revising paragraph (a)(3)(iii)(B)(3)(iv) to read as follows:

§ 91.107 Use of safety belts, shoulder harnesses, and child restraint systems.

(a) * * *

(3) * * *

(iii) * * *

(B) * * *

(3) * * *

(iv) That the seat or child restraint device furnished by the operator, or one of the persons described in paragraph (a)(3)(iii)(A) of this section, was approved by the FAA in accordance with § 21.8 or Technical Standard Order C-100b, or a later version.

* * * * *

Issued in Washington, DC on August 9, 2010.
Pamela Hamilton-Powell,
Director, Office of Rulemaking.

[FR Doc. 2010-19912 Filed 8-11-10; 8:45 am]

BILLING CODE 4910-13-P